OFFICE OF PERSONNEL MANAGEMENT

Excepted Service

AGENCY: U.S. Office of Personnel Management (OPM).

ACTION: Notice.

SUMMARY: This notice identifies Schedule A, B, and C appointing authorities applicable to a single agency that were established or revoked from January 1, 2015, to January 31, 2015.

FOR FURTHER INFORMATION CONTACT: Senior Executive Resources Services, Senior Executive Services and Performance Management, Employee Services, (202) 606-2246.

SUPPLEMENTARY INFORMATION: In accordance with 5 CFR 213.103, Schedule A, B, and C appointing authorities available for use by all agencies are codified in the Code of Federal Regulations (CFR). Schedule A, B, and C appointing authorities applicable to a single agency are not codified in the CFR, but the U.S. Office of Personnel Management (OPM) publishes a notice of agency-specific authorities established or revoked each month in the Federal Register at www.gpo.gov/fdsys/. OPM also publishes an annual notice of the consolidated listing of all Schedule A, B, and C appointing authorities, current as of June 30, in the Federal Register.

Schedule A

No Schedule A Authorities to report during January 2015.

Schedule B

No Schedule B authorities to report during January 2015.

Schedule C

The following Schedule C appointing authorities were approved during January 2015.

Agency name | Organization name | Position title | Authorization No. | Effective date
Department of Agriculture | Office of the Assistant Secretary for Congressional Relations | Senior Legislative Analyst | DA150035 | 1/15/2015
| Office of Communications | Deputy Director | DA150041 | 1/20/2015
Department of Commerce | Office of the Chief of Staff | Director of Advance and Protocol | DC150043 | 1/15/2015
Consumer Product Safety Commission | Office of Commissioners | Special Assistant (Legal) | PS150002 | 1/22/2015
Department of Defense | Washington Headquarters Services | Defense Fellow | DD150035 | 1/7/2015
| Office of Assistant Secretary of Defense (Legislative Affairs) | Special Assistant (Legislative Affairs) (Chief Policy) | DD150045 | 1/23/2015
Department of the Army | Office of the Under Secretary | Special Assistant | DW150012 | 1/28/2015
Export-Import Bank | Office of the Chairman | Director of Scheduling | EB150001 | 1/23/2015
Department of Homeland Security | Federal Emergency Management Agency | Special Assistant | DM150049 | 1/7/2015
| Office of the Chief of Staff | Special Assistant | DM150050 | 1/20/2015
| Office of the Assistant Secretary for Policy | Special Assistant In Information Sharing Policy | DM150051 | 1/20/2015
| Office of the Assistant Secretary for Policy | Special Assistant (3) | DM150052 DM150053 DM150056 | 1/20/2015 1/20/2015 1/23/2015
Department of Housing and Urban Development | Office of Public Affairs | Deputy Speechwriter Deputy Press Secretary | DU150020 DU150015 | 1/23/2015 1/2/2015
Department of Justice | Office of Legislative Affairs | Attorney Advisor and Intergovernmental Liaison | DJ150011 | 1/6/2015
| Office of the Associate Attorney General | Senior Counsel Deputy Director (Civil) | DJ140130 DJ150034 | 1/16/2015 1/21/2015
| Community Relations Service | Senior Counsel | DJ150032 | 1/16/2015
| Office of the Attorney General | Confidential Assistant | DJ150033 | 1/16/2015
Department of Labor | Wage and Hour Division | Senior Policy Advisor | DL150025 | 1/23/2015
Office of National Drug Control Policy | Office of the Director | Policy and Administrative Coordinator | QQ150002 | 1/20/2015
Office of Science and Technology Policy | Office of Science and Technology Policy | Confidential Assistant | TS150004 | 1/6/2015
Office of the United States Trade Representative | Office of the Ambassador | Special Assistant (2) | TN150002 TN150003 | 1/20/2015 1/6/2015
| Office of Congressional Affairs | Senior Advisor | TN150008 | 1/20/2015
| Office of Intergovernmental Affairs and Public Liaison | Director for Private Sector Engagement | TN150004 | 1/27/2015
Small Business Administration | Office of the Administrator | Confidential Assistant | SB150012 | 1/23/2015
Department of State | Office of the Chief of Protocol | Protocol Officer (Ceremonials) | DS150020 | 1/23/2015
| Office of the Deputy Secretary | Senior Advisor Staff Assistant | DS150021 DS150022 | 1/23/2015 1/23/2015
| Office of the Secretary | Staff Assistant | DS150032 | 1/23/2015
Department of Transportation | Office of the Secretary (Public Affairs) | Deputy Press Secretary Director of Strategic Communications | DT150017 DT150021 | 1/2/2015 1/6/2015
|  | Chief Speechwriter | DT150019 | 1/7/2015
|  | Press Secretary and Senior Media Advisor | DT150025 | 1/23/2015
| National Highway Traffic Safety Administration | Director of Communications | DT150018 | 1/2/2015
Department of the Treasury | Office of Assistant Secretary (Management) | Special Assistant | DY150029 | 1/23/2015
| Office of Assistant Secretary (Legislative Affairs) | Special Assistant | DY150030 | 1/23/2015

The following Schedule C appointing authorities were revoked during January 2015.

Agency name | Organization name | Position title | Authorization No. | Vacate date
Department of Agriculture | Office of the Assistant Secretary for Congressional Relations | Legislative Director | DA150001 | 1/24/15
Department of the Army | Office of Assistant Secretary of the Army (Installations and Environment) | Special Advisor to the Assistant Secretary of the Army (Installations and Environments) | DW120035 | 1/3/15
Department of Education | Office of Innovation and Improvement | Senior Advisor for Science, Technology, Engineering and Math | DB140056 | 1/2/15
| Office of Communications and Outreach | Deputy Assistant Secretary for External Affairs and Outreach Services | DB090074 | 1/9/15
Department of Homeland Security | United States Immigration and Customs Enforcement | Congressional Relations Director | DM140099 | 1/23/15
| Office of the Under Secretary for Protection and Programs Directorate | Cyber Security Strategist | DM140216 | 1/31/15
Department of Justice | Office of Intergovernmental and Public Liaison | Associate Director | DJ110043 | 1/10/15
| Office of the Associate Attorney General | Counsel | DJ100169 | 1/24/15
| Office of the Attorney General | Confidential Assistant | DJ090123 | 1/31/15
| Bureau of Public Affairs | Supervisory Public Affairs Specialist | DS140062 | 1/19/15
Department of Transportation | Office of the Secretary (Public Affairs) | Speechwriter | DT140001 | 1/10/15

Authority: 5 U.S.C. 3301 and 3302; E.O. 10577, 3 CFR, 1954-1958 Comp., p. 218.

U.S. Office of Personnel Management.
Katherine Archuleta,
Director.

[FR Doc. 2015-06407 Filed 3-19-15; 8:45 am]

BILLING CODE 6325-39-P